DEPARTMENT OF THE INTERIOR

National Park Service

National Register of Historic Places; Notification of Pending Nominations and Related Actions

Nominations for the following properties being considered for listing or related actions in the National Register were received by the National Park Service before March 1, 2008. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by April 1, 2008.

J. Paul Loether,
Chief, National Register of Historic Places/National Historic Landmarks Program.

Arkansas

Conway County

Little Rock to Cantonment Gibson Road—Old Wire Road Segment, (Cherokee Trail of Tears MPS) Old Wire Rd. S. of Blackwell, Blackwell, 08000259

California

Lake County

Lakeport Carnegie Library, (California Carnegie Libraries MPS) 200 Park St., Lakeport, 08000261

Los Angeles County

Bungalow Heaven Historic District, (Residential Architecture of Pasadena: Influence of the Arts and Crafts Movement MPS) Roughly bounded by N. Mentor Ave.,E. Orange Grove Blvd., E. Washington Blvd., N. Michigan & N. Chester Aves., Pasadena, 08000260

Georgia

Fayette County

Holliday—Dorsey—Fife House, 140 Lanier Ave., Fayette, 08000263

Fulton County

Roberts, Isaac, House, 9725 Roberts Dr., Sandy Springs, 08000262

Idaho

Fremont County

Island Park Land and Cattle Company Home Ranch, US 20 approx. 1 mi. S. of Island Park, Island Park, 08000264

Mississippi

Jasper County

Graham House, 36 Co. Rd. 1824, Rose Hill, 08000265

Missouri

Greene County

Wilshire Apartments, (Springfield MPS) 520 S. Jefferson, Springfield, 08000266

Jackson County

Ambassador Hotel Historic District (Boundary Increase), 336 W. 36th St; 3543 Broadway, Kansas City, 08000267

St. Louis Independent City

Kieselhorst Piano Company Building, 1007 Olive St., St. Louis (Independent City), 08000268

Montana

Wibaux County

Vogt—Nunberg Farm, 7262 MT 7, Wibaux, 08000269

New Jersey

Middlesex County

United States Post Office, 360 Main St., Metuchen Borough, 08000270

New York

Greene County

Brand Hollow Road Stone Arch Bridge, Brand Hollow Rd., West Durham, 08000271

Moore Road Stone Arch Bridge, Moore Rd., Cornwallville, 08000272

Livingston County

Corby Farm Complex, (Lima MRA) 7400 Corby Rd., Honeoye Falls, 08000273

Monroe County

Spencerport Methodist Church, 32 Amity St., Spencerport, 08000274

Ontario County

Smith Observatory and Dr. William R. Brooks House, 618-620 Castle St., Geneva, 08000275

Orange County

Rushmore Memorial Library, Weygant Hill Rd. & NY 32, Highland Mills, 08000276

Woodlawn Farm, 20 Mount Orange Rd., Slate Hill, 08000277

North Dakota

McKenzie County

Sandstone School, 29th St. NW, Keene, 08000278

Rolette County

CCC Lodge at the International Peace Garden, RR1, Dunseith, 08000279

Stark County

Elks Club and Store Building—Dickenson Lodge #1137, 103 1st Ave. W., Dickinson, 08000280

Oregon

Multnomah County

Gregg, Norris and Helen, House, (Speculative Homebuilding in East Portland, Oregon MPS) 2538 NE. 21st Ave., Portland, 08000281

Swart, Harry A. and Lou K., House, 134 NE. Sumner, Portland, 08000282

Puerto Rico

Ponce Municipality

Mc Cabe Memorial Church, 835 Eugenio Maria de Hostos Ave., Ponce, 08000283

Tennessee

Obion County

Colored Hotel, 208 Nash St., Union City, 08000284

Virginia

Westmoreland County

Monroe, James, Family Home Site (Boundary Increase), VA 205, Monroe Hall, 08000285

Wisconsin

Green County

New Glarus Town Hall, 206 2nd St., New Glarus, 08000286

Outagamie County

St. Paul Evangelical Lutheran Church, 302 N. Morrison St., Appleton, 08000287

Ozaukee County

Tennie and Laura (Shipwreck), (Great Lakes Shipwreck Sites of Wisconsin MPS) 9 mi. SE, of Port Washington, Port Washington, 08000288

Wyoming

Carbon County

Fossil Cabin, The, US 30, Medicine Bow, 08000289

[FR Doc. E8-5241 Filed 3-14-08; 8:45 am]

BILLING CODE 4312-51-P